DEPARTMENT OF AGRICULTURE

Forest Service

Information Collection; Recreation Economy Project

AGENCY: Forest Service, USDA.

ACTION: Notice; request for comment.

SUMMARY: In accordance with the Paperwork Reduction Act of 1995, the Forest Service is seeking comments on a new information collection request titled, Recreation Economy Project.

DATES: Comments must be received in writing on or before September 10, 2019 to be assured of consideration. Comments received after that date will be considered to the extent practicable.

ADDRESSES: Comments concerning this notice should be addressed to W.J. Cober, Forest Recreation Program Manager, USDA Forest Service, Monongahela National Forest, Supervisor's Office, 200 Sycamore Street, Elkins, WV 26241.

Comments also may be submitted via facsimile to W.J. Cober at 304-635-4436 or by email at wcober@fs.fed.us.

The public may inspect comments received at the USDA Forest Service Washington Office, Sidney R. Yates Federal Building, 1400 Independence Avenue SW, Washington, DC 20250 during normal business hours. Visitors are encouraged to call ahead to facilitate entry to the building at 1-800-832-1355.

FOR FURTHER INFORMATION CONTACT: W.J. Cober, Forest Recreation Program Manager at 304-635-4436 or by email at wcober@fs.fed.us.

Individuals who use telecommunication devices for the deaf (TDD) may call the Federal Relay Service (FRS) at 1-800-877-8339 twenty-four hours a day, every day of the year, including holidays.

SUPPLEMENTARY INFORMATION:

Title: Recreation Economy Project.

OMB Number: 0596-NEW.

Type of Request: New.

Abstract: The Monongahela National Forest (MNF) in partnership with West Virginia University (WVU), and USDA Rural Development is bringing diverse stakeholders together to create a shared recreation vision for each county and the greater region surrounding the MNF.

The recreation economy project that involves 13 MNF gateway communities can be complemented with information collected from a recreation economy survey. The data will be used to guide decisions to support the development of recreation economies and incorporated into a graduate thesis in the Recreation, Parks, and Tourism Resources program at WVU.

The survey “Monongahela National Forest Recreation Economies Survey” is one page long with 13 questions that ask about visitors' background information, their spending in the 13 individual communities, and their perceptions of these communities. This survey will be placed at the Cranberry Mountain Nature Center and Seneca Rocks Visitor Center and will be filled out by visitors (self-administered).

Overall, this survey will add information on visitors' spatial movements in the 13 MNF gateway communities, their overall experience of communities visited, and spending in communities visited. This information will provide a valuable baseline for gateway community planning and economic development.

Estimate of Annual Burden: 3-5 minutes.

Type of Respondents: Individuals.

Estimated Annual Number of Respondents: 500.

Estimated Annual Number of Responses per Respondent: 1.

Estimated Total Annual Burden on Respondents: 1,500 hours.

Comment is invited on: (1) Whether this collection of information is necessary for the stated purposes and the proper performance of the functions of the Agency, including whether the information will have practical or scientific utility; (2) the accuracy of the Agency's estimate of the burden of the collection of information, including the validity of the methodology and assumptions used; (3) ways to enhance the quality, utility, and clarity of the information to be collected; and (4) ways to minimize the burden of the collection of information on respondents, including the use of automated, electronic, mechanical, or other technological collection techniques or other forms of information technology.

All comments received in response to this notice, including names and addresses when provided, will be a matter of public record. Comments will be summarized and included in the request for Office of Management and Budget approval.

Dated: June 26, 2019.
Frank R. Beum,
Acting Associate Deputy Chief, National Forest System.

[FR Doc. 2019-14796 Filed 7-11-19; 8:45 am]

BILLING CODE 3411-15-P